ENVIRONMENTAL PROTECTION AGENCY

[FRL-7219-1]

Koppers Company Inc., (Morrisville Plant) Superfund Site; Notice of Proposed Settlement

AGENCY: Environmental Protection Agency (EPA).

ACTION: Notice; request for public comment.

SUMMARY: The United States Environmental Protection Agency is proposing to enter into a settlement with Beazer East Inc., pursuant to 122(h) of the Comprehensive Environmental Response, Compensation, and Liability Act of 1980, as amended, regarding Beazer East Inc., located in Morrisville, Wake County, North Carolina. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA Region 4, Waste Management Division, 61 Forsyth Street SW., Atlanta, Georgia 30303, 404/562-8887.

Written comments may be submitted to Ms. Batchelor within 30 calendar days of the date of this publication.

Dated: May 10, 2002.
James T. Miller,
Acting Chief, CERCLA Program Services Branch, Waste Management Division.

[FR Doc. 02-13354 Filed 5-28-02; 8:45 am]

BILLING CODE 6560-50-M